DEPARTMENT OF DEFENSE

Department of the Army; Corps of Engineers

Notice of Public Scoping for the Missouri River Ecosystem Restoration Plan, Missouri River Basin, United States

AGENCY: Department of the Army, U.S. Army Corps of Engineers, DoD.

ACTION: Notice of public scoping and opportunity for comment.

SUMMARY: On Monday, January 26, 2009, the U.S. Department of Defense (DoD), U.S Army Corps of Engineers (USACE), Kansas City and Omaha Districts, issued a Notice of Intent to prepare an Environmental Impact Statement (EIS) for the preparation of the Missouri River Ecosystem Restoration Plan (74 FR 4382). Pursuant to Subsection (a) of Section 5018 of the Water Resources Development Act of 2007 (WRDA 2007), the U.S. Army Corps of Engineers must study actions required to mitigate habitat losses of aquatic and terrestrial habitat, recover federally listed species under the Endangered Species Act and restore ecosystem functions to prevent further declines among other native species. As part of this effort, the Kansas City and Omaha District offices of the U.S. Army Corps of Engineers are hosting public scoping meetings. The first official phase of public scoping will occur from May 1, 2009 through December 1, 2009 and address the plan purpose, need, and target resource identification. For information regarding public scoping meetings see SUPPLEMENTARY INFORMATION, below.

DATES: USACE invites comments on the proposed scope and content of the plan/EIS from all interested parties beginning May 1, 2009. Comments must be received by December 1, 2009 to ensure appropriate consideration. Late comments will be considered to the extent practicable. USACE also invites members of the public to participate in public scoping meetings (see SUPPLEMENTARY INFORMATION) to learn more about the proposed plan and provide oral comments on the issues to be considered.

ADDRESSES: Requests to be added to the project mailing list may be submitted by completing a form available on the Web site for the Missouri River Ecosystem Restoration Plan, located at: http://www.mrerp.org. Electronic comments may be submitted at: comments@mrerp.org. Written comments may be submitted by mail to the NEPA Document Manager for the Missouri River Ecosystem Restoration Plan: Ms. Jennifer Switzer, Project Manager, 601 E. 12th Street, Kansas City, MO 64106.

FOR FURTHER INFORMATION CONTACT: For further information and/or questions about the proposed plan/EIS, please contact Ms. Jennifer Switzer, Project Manager, by telephone: (816) 389-3062, by mail: 601 E. 12th Street, Kansas City, MO 64106, or by e-mail: jennifer.l.switzer@usace.army.mil, or Mr. Randy Sellers, Project Manager, by telephone (402) 995-2689, by mail: CENWO-PM-AE, 1616 Capitol Avenue, Omaha, NE 68102, or by e-mail: randy.p.sellers@usace.army.mil. For inquiries from the media, please contact the Corps, Kansas City District Public Affairs Officer (PAO), Mr. David Kolarik by telephone: (816) 389-3486, by mail: 601 E. 12th Street, Kansas City, MO 64106, or by e-mail: david.s.kolarik@usace.army.mil.

SUPPLEMENTARY INFORMATION: USACE is seeking public input on its proposed draft purpose and need statements for developing the Plan/EIS. The Plan is needed to fully implement the direction received in Subsection (a) of Section 5018 of the Water Resources Development Act of 2007; and address current trends indicating: diminished natural habitat; reduced populations of native species and communities; and reduced variability of physical processes such as flows, flooding, and sediment erosion/deposition. Therefore, the draft purpose of the Plan is to determine the actions required to mitigate losses of aquatic and terrestrial habitat; to recover federally listed species under the Endangered Species Act; and to restore the ecosystem to prevent further declines among other native species, while seeking to balance with social, economic, and cultural values for future generations. The overall goal of the planning process is to result in a sustainable decision that will guide mitigation, recovery, and restoration actions over the next 30 to 50 years.

In addition to seeking input on the proposed draft purpose and need for the Plan, the USACE is also seeking comments on what specific natural resources should be addressed and other issues that should be considered in this type of plan.

USACE is hosting public scoping meetings throughout the basin to address the plan purpose, need, and target resources. For specific information regarding these meetings (dates, locations, and times) please see http://www.mrerp.org.

All meetings are accessible to people with disabilities. Any individual with a disability who requires special assistance, such as a sign language interpreter, or a translator, please contact either project manager listed above at least 48 hours in advance of the meeting so that arrangements can be made.

Additional information about the Missouri River Ecosystem Restoration Plan can be found at http://www.mrerp.org.

Brenda S. Bowen,
Army Federal Register Liaison Officer.

[FR Doc. E9-8739 Filed 4-15-09; 8:45 am]

BILLING CODE 3720-58-P